DEPARTMENT OF THE INTERIOR

Office of the Secretary

Statement of Findings: Zuni Indian Tribe Water Rights Settlement Act of 2003

AGENCY: Office of the Secretary, Interior.

ACTION: Notice of Statement of Findings in accordance with Public Law 108-34.

SUMMARY: The Secretary of the Interior is causing this notice to be published as required by section 9 of the Zuni Indian Tribe Water Rights Settlement Act of 2003 (Settlement Act), Public Law 108-34, 117 Stat. 782-98. The publication of this notice causes the waiver and release of certain claims to become effective as required to implement the Settlement.

DATES: In accordance with section 9 of the Settlement Act, the waiver and release of claims described in section 7(b) and 7(c) of the Settlement Act are effective on December 19, 2006.

Contact: Address all comments and requests for additional information to Christopher Banet, Chair, Zuni Indian Tribe Water Rights Settlement Federal Implementation Team, Department of the Interior, Bureau of Indian Affairs, Southwest Regional Office, 1001 Indian School Road, NW., Albuquerque, NM 87104. (505) 563-3540.

SUPPLEMENTARY INFORMATION: In 1984, the United States established a reservation for the Zuni Indian Tribe (Tribe) in northern Arizona, the Zuni Heaven Reservation, for longstanding religious and sustenance activities. On June 7, 2002, the Tribe and other parties entered into the Zuni Indian Tribe Water Rights Settlement Agreement (Settlement Agreement), a negotiated settlement of the water rights for the Zuni Heaven Reservation in the General Adjudication of All Rights to Use Water in the Little Colorado River System and Source. The Settlement Agreement resolves all of the Tribe's water rights claims in the Arizona portion of the Little Colorado River Basin, assists the Tribe in acquiring surface water rights therein, provides for the Tribe's use of groundwater therefrom and provides for wetland restoration of a portion of the Tribe's Arizona lands.

The purposes of the Settlement Act are:

(1) To approve, ratify, and confirm the Settlement Agreement entered into by the Tribe and the neighboring non-Indians;

(2) To authorize and direct the Secretary to execute and perform the Settlement Agreement and related waivers;

(3) To authorize and direct the United States to take legal title and hold such title to certain lands in trust for the benefit of the Zuni Indian Tribe; and

(4) To authorize the actions, agreements, and appropriations as provided for in the Settlement Agreement and the Settlement Act.

In order for terms of the Settlement Act and Settlement Agreement to be effective, the Secretary is required to make a statement of findings that certain conditions have been met.

Statement of Findings

As required by section 9 of the Settlement Act and as required by section 3.1.L of the Settlement Agreement, I find as follows:

1. The Settlement Act has been enacted in a form approved by the parties in paragraph 3.1 of the Settlement Agreement.

2. The funds authorized by section 4(b) of the Settlement Act have been appropriated by the United States and deposited into the Zuni Indian Tribe Water Rights Development Fund (Fund), established under section 6 of the Settlement Act.

3. The State of Arizona has appropriated and deposited into the Fund the amount required by paragraph 7.6 of the Settlement Agreement.

4. The Tribe has waived the condition, as provided in paragraph 3.2 of the Settlement Agreement, that it purchase or acquire the rights to purchase 2,350 acre-feet per annum of surface water rights.

5. The Tribe has waived the condition, as provided in paragraph 3.2 of the Settlement Agreement, that it acquire conditional approval for severance and transfer of surface water rights that the Tribe owns or has the right to purchase.

6. Pursuant to subparagraph 3.1.E of the Settlement Agreement, the Tribe and the Lyman Water Company have executed two separate agreements relating to the process of severance and transfer of surface water rights acquired by the Tribe or the United States and relating to the pass-through, use, and storage of the Tribe's surface water rights in Lyman Lake and the operation of Lyman Dam. The United States and the Arizona Game and Fish Commission were also signatories to the severance and transfer agreement, and both agreements were made in consultation with the City of St. Johns, Arizona and St. Johns Irrigation Company. The Lyman Water Company did not find it necessary to amend any operating procedures or by-laws in furtherance of these agreements.

7. Pursuant to subparagraph 3.1.F of the Settlement Agreement, all parties to the Settlement Agreement have agreed and stipulated to certain Arizona Game and Fish Commission abstracts of water uses.

8. Pursuant to subparagraph 3.1.G of the Settlement Agreement, all parties to the Settlement Agreement have agreed to the location of an observation well and that well has been installed.

9. Pursuant to subparagraph 3.1.H of the Settlement Agreement, the Tribe, Apache County, Arizona and the State of Arizona have executed an Intergovernmental Agreement that satisfies all of the conditions in paragraph 6.2 of the Settlement Agreement.

10. The Tribe has acquired title to the section of land adjacent to Zuni Heaven Reservation described as Section 34, Township 14 North, Range 26 East, Gila and Salt River Base and Meridian.

11. The Settlement Agreement was modified to the extent that it was in conflict with the Settlement Act and the modification has been agreed to by all the parties to the Settlement Agreement.

12. A court of competent jurisdiction has approved the Settlement Agreement by a final judgment and decree.

As authorized by section 4(a) of the Act, I find as follows:

1. Pursuant to subparagraph 3.1.J of the Settlement Agreement, the Settlement Agreement, as amended, and all exhibits requiring signatures have been executed.

As required by paragraph 6.2.B of the Settlement Agreement, I hereby certify to the Governor of the State of Arizona that all of the conditions precedent in paragraph 6.2 have been satisfied.

Dated: December 8, 2006.
Dirk Kempthorne,
Secretary of the Interior.

[FR Doc. 06-9756 Filed 12-18-06; 8:45 am]

BILLING CODE 4310-W7-M